FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202)-523-5793 or tradeanalysis@fmc.gov.

Agreement No.: 201336.

Agreement Name: Crowley/King Ocean Space Charter Agreement.

Parties: Crowley Caribbean Services LLC and King Ocean Services Limited, Inc.

Filing Party: Wayne Rohde; Cozen O'Connor.

Synopsis: The Agreement authorizes King Ocean to charter space to Crowley in the trade between the U.S. East Coast on the one hand and Grenada and St. Vincent on the other hand.

Proposed Effective Date: 4/27/2020.

Location: https://www2.fmc.gov/FMC.Agreements.Web/Public/AgreementHistory/27482.

Agreement No.: 201337.

Agreement Name: Glovis/CSAV East Coast United States to South America West Coast Space Charter Agreement.

Parties: Hyundai Glovis Co., Ltd. and Compania Sud Americana de Vapores S.A.

Filing Party: Wayne Rohde; Cozen O'Connor.

Synopsis: The Agreement authorizes Glovis to charter space to CSAV in the trade between ports on the East Coast of the United States and ports on the West Coast of South America.

Proposed Effective Date: 3/17/2020.

Location: https://www2.fmc.gov/FMC.Agreements.Web/Public/AgreementHistory/27483.

Agreement No.: 012439-005.

Agreement Name: THE Alliance Agreement.

Parties: Hapag-Lloyd AG and Hapag-Lloyd USA, LLC (acting as a single party); Hyundai Merchant Marine Co., Ltd.; Ocean Network Express Pte. Ltd.; and Yang Ming Marine Transport Corporation and Yang Ming (Singapore) Pte. Ltd. and Yang Ming (UK) Ltd. (acting as a single party).

Filing Party: Joshua Stein; Cozen O'Connor.

Synopsis: The amendment revises certain provisions in Appendix B of the Agreement relating to the Contingency Fund to allow the Parties increased flexibility with respect to the manner in which they each satisfy their Contingency Contribution requirements. In addition, the definition of Contingency Contribution has been revised to reflect each Party's current Contingency Contribution obligations.

Proposed Effective Date: 5/3/2020.

Location: https://www2.fmc.gov/FMC.Agreements.Web/Public/AgreementHistory/1912.

Dated: March 20, 2020.
Rachel Dickon,
Secretary.

[FR Doc. 2020-06283 Filed 3-25-20; 8:45 am]

BILLING CODE 6730-02-P